DEPARTMENT OF AGRICULTURE

Forest Service

Sante Fe National Forest; New Mexico; Amendment of the Land Management Plan for the Santa Fe National Forest

AGENCY: Forest Service, USDA.

ACTION: Notice.

SUMMARY: Santa Fe National Forest, located in New Mexico, prepared a nonsignificant, programmatic forest plan amendment to allow the use of herbicides in municipal watersheds and on soils with low revegetation potential to accompany its Supplemental Environmental Impact Statement (SEIS) and a Draft Record of Decision (ROD) for Invasive Plant Control. This notice is to inform the public that a 60-day period is being initiated where individuals or entities with specific concerns on Santa Fe's Forest Plan Amendment for Invasive Plant Control may file an objection for Forest Service review prior to the approval of the Record of Decision for Invasive Plant Control.

DATES: Santa Fe's Forest Plan Amendment for Invasive Plant Control, SEIS, Draft ROD, and other supporting information, will be available for review at http://www.fs.usda.gov/projects/santafe/landmanagement/projects starting December 21, 2017.

A legal notice of the initiation of the 60-day objection period is also being published in Santa Fe National Forest's newspaper of record, which is the Albuquerque Journal. The date of publication of the legal notice in the Albuquerque Journal will determine the actual date of initiation of the 60-day objection period. A copy of the legal notice that is published in the Albuquerque Journal will be posted on the website listed above.

ADDRESSES: Copies of the Santa Fe's Forest Plan Amendment for Invasive Plant Control on Santa Fe National Forest, the SEIS, and the Draft ROD can be obtained online at: http://www.fs.usda.gov/projects/santafe/landmanagement/projects; or by visiting or mailing a request to the Forest Supervisor's Office at the following location:

• 11 Forest Lane, Santa Fe, NM 87508 (Telephone: 505-438-5443);

Objections must be submitted to the Reviewing Officer:

• Regional Forester, USDA-Forest Service, ATTN: Objection Reviewing Officer, 333 Broadway Blvd. SE, Albuquerque, NM 87102 (Fax: 505-842-3173).

Objections may be submitted electronically at objections-southwestern-regional-office@fs.fed.us.

Note that the office hours for submitting a hand-delivered objection are 8:00 a.m. to 4:30 p.m. Monday through Friday, excluding Federal holidays. Electronic objections must be submitted in a commonly used format such as an email message, plain text (.txt), rich text format (.rtf) or Microsoft Word® (.doc or .docx).

FOR FURTHER INFORMATION CONTACT: Sandra Imler-Jacquez, Environmental Coordinator, Santa Fe National Forest at 505-438-5443. Individuals who use telecommunication devices for the deaf (TDD) may call the Federal Information Relay Service (FIRS) at 1-800-877-8339 between 8:00 a.m. and 8:00 p.m. (Eastern time), Monday through Friday.

SUPPLEMENTARY INFORMATION: The Forest Service, Southwestern Region, Santa Fe National Forest, prepared a Forest Plan Amendment for Invasive Plant Control. This notice is to inform the public that a 60-day period is being initiated where individuals or entities with specific concerns on Santa Fe's Forest Plan Amendment for Invasive Plant Control may file an objection for Forest Service review prior to the approval of the ROD for the Supplemental Environmental Impact Statement for the Invasive Plant Control Project.

The publication date of the legal notice in Santa Fe National Forest's newspaper of record, the Albuquerque Journal, will initiate the 60-day objection period and is the exclusive means for calculating the time to file an objection (36 CFR 219.16 and 219.52). An electronic scan of the notice with the publication date will be posted on Santa Fe National Forest's website at: http://www.fs.usda.gov/projects/santafe/landmanagement/projects.

The objection process under 36 CFR 219 subpart B, provides an opportunity for members of the public who have participated in the planning process for the Forest Plan Amendment for Invasive Plant Control on Santa Fe National Forest to have any unresolved concerns reviewed by the Forest Service prior to a final decision by the Responsible Official. Only those who provided substantive formal comments during the public comment period during the planning process are eligible to file an objection. Regulations at 36 CFR 219.62 define substantive formal comments as:

Written comments submitted to, or oral comments recorded by, the responsible official or his designee during an opportunity for public participation provided during the planning process, and attributed to the individual or entity providing them. Comments are considered substantive when they are within the scope of the proposal, are specific to the proposal, have a direct relationship to the proposal, and include supporting reasons for the responsible official to consider.

How To File an Objection

The Forest Service will accept mailed, emailed, faxed, and hand-delivered objections concerning Santa Fe's Forest Plan Amendment for Invasive Plant Control for 60 calendar days following the date of the publication of the legal notice of this objection period in the newspaper of record, the Albuquerque Journal. It is the responsibility of the objector to ensure that the Reviewing Officer receives the objection in a timely manner. The regulations prohibit extending the length of the objection filing period.

Objections must be submitted to the Reviewing Officer, who will be the Regional Forester for the Southwestern Region, at the address shown in the ADDRESSES section of this notice.

An objection must include the following (36 CFR 219.54(c)):

(1) The objector's name and address along with a telephone number or email address if available—in cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name of the forest plan amendment being objected to, and the name and title of the Responsible Official;

(5) A statement of the issues and/or parts of the forest plan amendment to which the objection applies;

(6) A concise statement explaining the objection and suggesting how the proposed plan decision may be improved. If the objector believes that the forest plan amendment is inconsistent with law, regulation, or policy, an explanation should be included;

(7) A statement that demonstrates the link between the objector's prior substantive formal comments and the content of the objection, unless the objection concerns an issue that arose after the opportunities for formal comment; and

(8) All documents referenced in the objection (a bibliography is not sufficient), except that the following need not be provided:

a. All or any part of a Federal law or regulation,

b. Forest Service Directive System documents and land management plans or other published Forest Service documents,

c. Documents referenced by the Forest Service in the planning documentation related to the proposal subject to objection, and

d. Formal comments previously provided to the Forest Service by the objector during the plan amendment comment period.

Responsible Official

The responsible official for the Santa Fe's Forest Plan Amendment for Invasive Plant Control on Santa Fe National Forest is James Melonas, Forest Supervisor, Santa Fe National Forest, 11 Forest Lane, Santa Fe, NM 87508.

Dated: November 7, 2017.
Glenn P. Casamassa,
Acting Associate Deputy Chief, National Forest System.

[FR Doc. 2017-27490 Filed 12-20-17; 8:45 am]

BILLING CODE 3411-15-P